ENVIRONMENTAL PROTECTION AGENCY

[FRL-8220-2; EPA-HQ-Docket ID No. EPA-ORD-2006-0666]

Approaches To Estimating the Waterborne Disease Outbreak Burden in the United States: Uses and Limitations of the Waterborne Disease Outbreak Surveillance System; External Review Draft

AGENCY: Environmental Protection Agency (EPA).

ACTION: Notice of public comment period.

SUMMARY: EPA is announcing a 30-day public comment period for the draft document titled, Approaches To Estimating the Waterborne Disease Outbreak Burden in the United States: Uses and Limitations of the Waterborne Disease Outbreak Surveillance System (EPA/600/R-06/069). The document was prepared by the National Center for Environmental Assessment (NCEA) within EPA's Office of Research and Development.

EPA is releasing this draft document solely for the purpose of pre-dissemination peer review under applicable information quality guidelines. This document has not been formally disseminated by EPA. It does not represent and should not be construed to represent any Agency policy or determination. EPA will consider any public comments submitted in accordance with this notice when revising the document.

DATES: The 30-day public comment period begins September 15, 2006, and ends October 16, 2006. Technical comments should be in writing and must be received by EPA by October 16, 2006.

ADDRESSES: The draft Approaches To Estimating the Waterborne Disease Outbreak Burden in the United States: Uses and Limitations of the Waterborne Disease Outbreak Surveillance System (EPA/600/R-06/069) is available primarily via the Internet on the National Center for Environmental Assessment's home page under the Recent Additions and Publications menus at http://www.epa.gov/ncea. A limited number of paper copies are available from Ms. Donna Tucker, Technical Information Manager, NCEA-Cincinnati; telephone: 513-569-7257; facsimile: 513-569-7916; e-mail: tucker.donna@epa.gov. If you are requesting a paper copy, please provide your name, your mailing address, and the document title, Approaches To Estimating the Waterborne Disease Outbreak Burden in the United States: Uses and Limitations of the Waterborne Disease Outbreak Surveillance System (EPA/600/R-06/069).

Comments may be submitted electronically via EPA's E-Docket, by mail, by facsimile, or by hand delivery/courier. Please follow the detailed instructions provided in the Supplementary Information section of this notice.

FOR FURTHER INFORMATION CONTACT: For information on the public comment period, contact the Office of Environmental Information Docket; telephone: 202-566-1752; facsimile: 202-566-1753; or e-mail: ORD.Docket@epa.gov.

For technical information, contact Glenn Rice, NCEA; telephone: 513-569-7813; facsimile: 513-487-2539; or e-mail: rice.glenn@epa.gov.

SUPPLEMENTARY INFORMATION:

I. Information About the Project/Document

Information about waterborne disease outbreaks (WBDOs) in the United States is voluntarily reported by State, territorial and local public health agencies to the Centers for Disease Control and Prevention (CDC). CDC and EPA jointly maintain a WBDO database. The database describes outbreak attributes including, among other things, the drinking water system deficiency, the etiologic agent, and the number of individuals who became ill. Underreporting of such events is assumed but the magnitude of underreporting is unknown.

This draft document presents an approach for estimating the epidemiologic and economic burden of disease associated with 665 WBDOs reported in the U.S. between 1971 and 2000. The term disease burden broadly refers to the magnitude of the impact incurred by society as a consequence of disease in the community (e.g., decrements in a population's health or the associated economic effects) and there are various metrics that can be employed by analysts to quantify burden. In order to capture some of the benefits of drinking water regulations, EPA has typically expressed waterborne disease impacts in terms of epidemiologic and monetary measures; this WBDO burden analysis employs those same measures. Because not all WBDOs in the United States and associated cases of illness are reported, the WBDO database on which this draft document is based is not comprehensive. The extent to which WBDOs are not recognized is unknown and is not examined in this analysis. This draft report develops several quantitative sensitivity analyses to characterize some of the uncertainty in the burden estimates but does not provide an evaluation of the potential impact of under- or overreporting of WBDOs or their associated severity characteristics. The draft report includes recommendations for the collection and reporting of additional outbreak information that would improve the usefulness of the WBDO database for future disease burden estimates.

II. How To Submit Technical Comments to EPA's E-Docket

Submit your comments, identified by Docket ID No. EPA-ORD-2006-0666 by one of the following methods:

• www.regulations.gov: Follow the on-line instructions for submitting comments.

• E-mail: ORD Docket@epa.gov.

• Fax: 202-566-1753.

• Mail: Office of Environmental Information (OEI) Docket (Mail Code: 2822T), U.S. Environmental Protection Agency, 1200 Pennsylvania Ave., NW., Washington, DC 20460. The phone number is 202-566-1752.

If you provide comments by mail, please submit one unbound original with pages numbered consecutively, and three copies. For attachments, provide an index, number pages consecutively with the comments, and submit an unbound original and three copies.

• Hand Delivery: The OEI Docket is located in the Headquarters EPA Docket Center, EPA/DC; EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the Docket's normal hours of operation, and special arrangements should be made for deliveries of boxed information.

Instructions: Direct your comments to Docket ID No. EPA-ORD-2006-0666. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the OEI Docket in the EPA Headquarters Docket Center.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at www.epa.gov/epahome/dockets.htm for current information on docket operations, locations and telephone numbers. U.S. mail and the procedures for submitting comments to www.regulations.gov are not affected by the flooding and will remain the same.

Dated: September 7, 2006.
Peter W. Preuss,
Director, National Center for Environmental Assessment.

[FR Doc. E6-15335 Filed 9-14-06; 8:45 am]

BILLING CODE 6560-50-P